DEPARTMENT OF THE INTERIOR

Bureau of Land Management

[LLNML0000 L12200000.BY0000]

Emergency Closure to Recreational and Target Practice Shooting on Public Lands Along Dog Canyon Road in Central Otero County, Las Cruces District Office, NM

AGENCY: Bureau of Land Management, Interior.

ACTION: Notice of emergency closure.

SUMMARY: Notice is hereby given that effective immediately, the Las Cruces District Office is implementing the following closure to recreational and target practice shooting to provide for public safety near residential areas and the Oliver Lee Memorial State Park. The closure is needed in order to prevent damage to property or life in the vicinity of the gravel pit and Dog Canyon Road in central Otero County, New Mexico.

DATES: This closure is effective on May 4, 2009 and shall remain in effect for no more than 2 years, until which time the BLM will, through public involvement, develop long-term management resolution of the safety issue in this area.

FOR FURTHER INFORMATION CONTACT: Tom Phillips, Supervisory Recreation/Cultural Resources Specialist, 1800 Marquess Street, Las Cruces, NM 88005; or call (575) 525-4300.

SUPPLEMENTARY INFORMATION: 1. Public Land in T. 18 S., R. 10 E., section 17, Dog Canyon Road, Otero County NM, totaling 200 acres. Discharging of firearms for recreational or target practice shooting is prohibited in this 200 acre parcel.

2. This closure does not affect the ability of local, State, or Federal officials in the performance of their duties in the area, including the discharge of firearms in the performance of their official duties.

3. This notice will be posted along the public roads where this closure is in effect.

4. The following persons are exempt from this closure order:

a. Federal, State, or local law enforcement officers, while acting within the scope of their official duties.

b. Any person with a current legal New Mexico hunting license in his/her possession and hunting in accordance with State law.

Violations of these closures and restrictions are punishable by fines not to exceed $1,000 and/or imprisonment not to exceed one year. These actions are taken to prevent impacts to soils, native vegetative resources, wildlife habitat, cultural resources, and scenic values, and to protect public health and safety.

Copies of this closure order and maps showing the location of the routes are available from the Las Cruces District Office, 1800 Marquess Street, Las Cruces, NM 88005.

Authority: 43 CFR 8364.1 and 18 U.S.C. 3551 (Sentencing Reform Act of 1984).

Bill Childress,
Las Cruces District Manager.

[FR Doc. E9-10127 Filed 5-1-09; 8:45 am]

BILLING CODE 4310-VC-P